INTER-AMERICAN FOUNDATION

Sunshine Act Meetings

TIME AND DATE: November 9, 2015, 9:00 a.m.-1:00 p.m.

PLACE: Offices of Baker & McKenzie LLP, 815 Connecticut Avenue NW., White House Conference Room, Washington, DC 20006.

STATUS: Meeting of the Board of Directors with the Advisory Council, Open to the Public.

MATTERS TO BE CONSIDERED:

Approval of the Minutes of the August 10, 2015, Meeting of the Board of Directors

Management Report

The view from Brazil and Mexico

Remarks from Roberta Jacobson, Assistant Secretary of State for Western Hemisphere Affairs

Adjournment

Next Meetings

CONTACT PERSON FOR MORE INFORMATION: Paul Zimmerman, General Counsel, (202) 683-7118.

Paul Zimmerman,
General Counsel.

[FR Doc. 2015-28237 Filed 11-2-15; 4:15 pm]

BILLING CODE 7025-01-P